DEPARTMENT OF EDUCATION

RIN 1894-AA09

[Docket ID ED-2017-OS-0078]

Secretary's Proposed Supplemental Priorities and Definitions for Discretionary Grant Programs

AGENCY: Department of Education.

ACTION: Proposed priorities and definitions.

SUMMARY: In order to support and strengthen the work that educators do every day in collaboration with parents, advocates, and community members, the Secretary proposes 11 priorities and related definitions for use in discretionary grant programs that are in place today or may exist in the future. The Secretary may choose to include an entire priority within a grant program or merely one or more of its component parts. These proposed priorities and definitions are intended to replace the current supplemental priorities published on December 10, 2014 (79 FR 73425).

DATES: We must receive your comments on or before November 13, 2017.

ADDRESSES: Submit your comments through the Federal eRulemaking Portal or via postal mail, commercial delivery, or hand delivery. We will not accept comments by fax or by email, or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use regulations.gov.”

• Postal Mail, Commercial Delivery, or Hand Delivery: If you mail or deliver your comments, address them to Jennifer Bell-Ellwanger, U.S. Department of Education, 400 Maryland Avenue SW., Room 6W231, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Jennifer Bell-Ellwanger, U.S. Department of Education, 400 Maryland Avenue SW., Room 6W231, Washington, DC 20202. Telephone: (202) 401-0831 or by email: jennifer.bell-ellwanger@ed.gov.

If you use a telecommunications device for the deaf (TDD) or a text telephone (TTY), call the Federal Relay Service, toll free, at 1-800-877-8339.

SUPPLEMENTARY INFORMATION: Invitation to Comment: We invite you to submit comments regarding this notice. To ensure that your comments have maximum effect in developing the notice of final priorities, we urge you to identify clearly the specific issues that each comment addresses.

We invite you to assist us in complying with the specific requirements of Executive Orders 12866 and 13563 and their overall requirement of reducing regulatory burden that might result from these proposed priorities and definitions. Please let us know of any further ways we could reduce potential costs or increase potential benefits while preserving the effective and efficient administration of our programs.

During and after the comment period, you may inspect all public comments about this notice by accessing Regulations.gov. You may also inspect the comments in person in Room 6W231, 400 Maryland Avenue SW., Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Program Authority: 20 U.S.C. 1221e-3.

Proposed Priorities:

This notice contains 11 proposed priorities.

Background:

The Secretary proposes 11 priorities and related definitions for use in discretionary grant programs to reflect the Secretary's vision for American education. Specifically, the priorities are designed to encourage grantees to empower parents and educators; reduce red tape; utilize and build evidence of what works; and, most importantly, take strides toward ensuring equal access to the high-quality, affordable education every American student deserves in an educational environment that is safe and respectful of all viewpoints and backgrounds.

Improving education starts with allowing greater decision-making authority at the State and local level while also recognizing that the ultimate form of local control occurs when parents and students are empowered to choose their own educational paths forward. This work also requires helping all students overcome challenges they may face outside of the classroom, learn to read so they can use reading to learn, and complete their formal education with a well-considered and attainable path to a sustainable career. These priorities will also support broad-based access to 21st-century technologies.

The Department believes that more Federal programs are not a sufficient proxy for progress and that increased Federal funding cannot be a stand-in for increased learning. We will focus less on discrete funding streams and more on innovative problem solving. This can only happen when everyone gets a seat at the table and can focus on high-priority local projects that promote change from the ground up. We will place a renewed focus on our core mission: serving the most vulnerable students, ensuring equal access for all students, protecting their path to a world-class education, and empowering local educators to deliver for our students.

Proposed Priority 1—Empowering Families to Choose a High-Quality Education that Meets Their Child's Unique Needs.

Background:

In his first address to a joint session of Congress on February 28, 2017, the President underscored the importance of educational choice and providing families with access to quality educational options, noting that families should be free to choose the school that is right for their children. Likewise, the Secretary believes that every child, regardless of his or her ZIP code or family income, should have access to a high-quality education. A family should have the chance to select the educational path that best meets a child's needs, regardless of where or how instruction is delivered. The Department is committed to improving access to high-quality preschool through 12th grade (P-12) and postsecondary educational options, offering meaningful choices for families, and providing families with the information and tools they need to make these important decisions.

In 2012, approximately 78 percent of kindergarten through 12th grade students attended the public school to which they were geographically assigned, about 14 percent attended a public school of their choice, and almost nine percent attended a private school.¹ In addition, among all children ages 5-17, approximately three percent were homeschooled in 2012.² Satisfaction levels are the highest among private school parents, with more than 80 percent of parents saying they were “very satisfied” with their children's school. Parents of children at public charter schools and public schools of choice also showed levels of satisfaction that were significantly higher than parents at geographically assigned district schools.³

¹ U.S. Department of Education, National Center for Education Statistics, Parent and Family Involvement in Education Survey of the 2012 National Household Education Surveys Program (PFI-NEHS: 2012). (n.d.). “Percentages of children enrolled in kindergarten through 12th grade by school type: 2012.” Available at: https://nces.ed.gov/nhes/tables/enrollment_school_type.asp.

² U.S. Department of Education, National Center for Education Statistics, Digest of Education Statistics. (2014). “Table 206.10. Number and percentage of homeschooled students ages 5 through 17 with a grade equivalent of kindergarten through 12th grade, by selected child, parent, and household characteristics: 2003, 2007, and 2012.” Available at: https://nces.ed.gov/programs/digest/d15/tables/dt15_206.10.asp.

³ Cheng, A. & Peterson, P. (2017). How Satisfied are Parents with Their Children's Schools? Education Next, 17(2). Available at: http://educationnext.org/how-satisfied-are-parents-with-childrens-schools-us-dept-ed-survey.

A diverse array of postsecondary education choices are also available to high school students through dual-enrollment and similar programs, which allow these students to take postsecondary coursework offered by a college or university, the secondary school in which they are enrolled, or another provider.

The Administration's goal is to maximize availability of high-quality learning opportunities. This proposed priority would support grantees in offering innovative and, where possible, evidence-based models of educational choice (as defined in this notice, and consistent with applicable Federal, State, and local law) to students in both P-12 and postsecondary settings.

Proposed Priority:

Projects that are designed to address one or more of the following priority areas:

(a) Increasing the proportion of students with access to educational choice (as defined in this notice).

(b) Increasing access to educational choice for one or more of the following groups of students:

(i) Students in communities served by rural local educational agencies (as defined in this notice).

(ii) Students who are children with disabilities as defined in the Individuals with Disabilities Education Act (IDEA) and/or individuals with disabilities under Section 504 of the Rehabilitation Act of 1973 (Section 504) or students with disabilities and children with disabilities who are eligible under both laws);

(iii) English learners (as defined in section 8101(20) of the Elementary and Secondary Education Act, as amended, or section 203(7) of the Workforce Innovation and Opportunity Act of 2014).

(iv) Students in schools identified for comprehensive or targeted support and improvement in accordance with section 1111(c)(4)(C)(iii), (c)(4)(D), or (d)(2)(C)-(D) of the Elementary and Secondary Education Act, as amended.

(v) Students who are living in poverty (as defined under section 1113(a)(5)(A) of the Elementary and Secondary Education Act, as amended) and are served by high-poverty schools (as defined in this notice), or are a low-income individual (as defined under section 312(g) of the Higher Education Act of 1965, as amended).

(vi) Disconnected youth.

(vii) Migratory children.

(viii) Low-skilled adults.

(ix) Students who are Indians, as defined in section 6151 of the Elementary and Secondary Education Act, as amended.

(x) Military- or veteran-connected students (as defined in this notice).

(xi) Children or students who are academically far below grade level, who have left school before receiving a regular high school diploma, who are at risk of not graduating with a regular high school diploma on time.

(xii) Children or students who are homeless.

(xiii) Children or students who are or have been incarcerated.

(xiv) Children or students who are or were previously in foster care.

(c) Developing, increasing access to, and building evidence of effectiveness of innovative models of educational choice.

Proposed Priority 2—Promoting Innovation and Efficiency, Streamlining Education with an Increased Focus on Improving Student Outcomes, and Providing Increased Value to Students and Taxpayers.

Background:

The Department is focused on fostering a more favorable environment for innovation by reducing red tape and streamlining regulations and other requirements in education while placing an increased focus on improving student outcomes. This increased focus on outcomes, and decreased emphasis on compliance first, will allow us to invest more in approaches supported by evidence of positive outcomes for students and avoid those that are inefficient, ineffective, or unproven.

In order to accomplish this goal, the Department is rethinking the incentives we set for grantees and how those incentives, in turn, affect how grantees interact with subgrantees (such as schools within a district), nonprofits supporting implementation of a grant project, and other partners. In general, the Administration also welcomes and encourages entities pursuing innovative approaches to participate in the Department's programs.

Leaders in States, districts, schools, and institutions of higher education must also have the opportunity to do things differently to meet the needs of their students. At the Federal level, the Administration is interested in eliminating unnecessary burdens placed on grantees. Through this priority, we likewise encourage States, school districts, schools, and others receiving grants from the Department to weigh whether requirements they place on subgrantees and other partners working to achieve grant objectives or being served by the grant are necessary to drive improvements in student outcomes, or if they actually hinder efforts to best serve students. Doing so will allow States, districts, schools, teachers, and institutions of higher education to spend less time on paperwork and burdensome administration and more time on their core missions.

Proposed Priority:

Projects that are designed to address one or more of the following priority areas:

(a) Implementing strategies that ensure education funds are spent in a way that increases their efficiency and effectiveness, including by reducing waste or achieving better outcomes.

(b) Supporting innovative strategies with the potential to lead to significant and wide-reaching improvements in the delivery of educational services.

(c) Reducing compliance burden within the grantee's operations (including on subgrantees or other partners working to achieve grant objectives or being served by the grant) in a manner that decreases paperwork or staff time spent on administrative functions, or other measurable ways that help educational providers to save money, benefit more students, or improve results.

(d) Demonstrating innovative paths to improved outcomes by applicants that meet the requirements in 34 CFR 75.225 (a)(1)(i) and (ii).

(e) Strengthening development capabilities to increase private support for institutions or demonstrating matching support for proposed projects.

Proposed Priority 3—Fostering Flexible and Affordable Paths to Obtaining Knowledge and Skills.

Background:

An educated and well-prepared workforce is essential to maintaining an American advantage in a global economy where competition for jobs is increasing and technology is changing rapidly.⁴ In their 2017 State of the State addresses, at least 24 governors identified workforce development and career pathways as key education priorities.⁵ It is critical that we ensure our Nation's workforce is prepared to meet the challenges of tomorrow with the skills and credentials that employers require.

⁴ Schwab, K. (2016). The Global Competitiveness Report 2016-2017. Geneva, Switzerland: World Economic Forum. Available at: http://www3.weforum.org/docs/GCR2016-2017/05FullReport/TheGlobalCompetitivenessReport2016-2017_FINAL.pdf.

⁵ Rafa, A. and Rogowski, D. (2017). “Governors' Top Education Priorities: 2017 State of the State addresses.” Denver, CO: Education Commission of the States. Available at: www.ecs.org/ec-content/uploads/Governors%E2%80%99-Top-Education-Priorities-2017-State-of-the-State-addresses.pdf.

To meet these challenges, schools must better equip students with the skills or knowledge required by employers, particularly employment in in-demand industry sectors or occupations, and recognized postsecondary credentials need to be developed that focus on the career and technical skills needed for in-demand industry sectors or occupations (as defined in section 3(23)(A) of the Workforce Innovation and Opportunity Act of 2014). Such credentials should serve to define, measure, and communicate the skills students will need to be successful in workplaces.

Meeting this challenge requires starting early in a student's education. Each American student is unique and enters school with a distinct set of strengths and challenges. Each student learns and grows at his or her own pace and in his or her own way; therefore, States, districts, schools, institutions of higher education, and other local providers must help every student build upon his or her unique strengths and address his or her unique challenges.

Competency-based learning is one possible approach to improve student outcomes and prepare students for careers.⁶ Under this approach, instead of equating seat time with learning—assuming all students need the same amount of time to learn material—students can work at their own pace and progress as they demonstrate mastery of content. Other approaches to prepare students for work and life are also encouraged, including those that allow students to more easily demonstrate their knowledge and skills and employers to more easily communicate the knowledge and skills they require.

⁶ U.S. Department of Education, Office of Planning, Evaluation and Policy Development, Policy and Program Studies Service. (2017). National Survey on High School Strategies Designed to Help At-Risk Students Graduate: Competency-Based Advancement. Available at: https://www2.ed.gov/rschstat/eval/high-school/competency-based-advancement.pdf.

Proposed Priority:

Projects that are designed to address one or more of the following priority areas:

(a) Improving collaboration between education providers and employers to ensure student learning objectives are aligned with the skills or knowledge required for employment in an in-demand industry sector or occupation (as defined in section 3(23)(A) of the Workforce Innovation and Opportunity Act of 2014).

(b) Developing or developing pathways to recognized postsecondary credentials (as defined in section 3(52) of the Workforce Innovation and Opportunity Act of 2014) focused on career and technical skills for in-demand industry sectors or occupations and employment of credential holders. Students may obtain such credentials through a wide variety of education providers, such as: Institutions of higher education eligible for Federal student financial aid programs, non-traditional education providers (e.g., apprenticeship programs or computer coding boot camps), and other providers of self-guided learning.

(c) Providing work-based learning experiences (such as internships, apprenticeships, and fellowships) leading to careers in in-demand industry sectors or occupations.

(d) Creating or expanding innovative paths to a recognized postsecondary credential or obtainment of job-ready skills for careers in in-demand industry sectors or occupations, such as through career pathways (as defined in section 3(7) of the Workforce Innovation and Opportunity Act of 2014). Such credentials may be offered to all students through a wide variety of education providers, such as traditional institutions of higher education, non-traditional education providers, and other providers of self-guided learning.

(e) Creating or expanding opportunities for individuals to obtain recognized postsecondary credentials through the demonstration of prior knowledge and skills, such as competency-based learning. Such credentials may include an industry-recognized certificate or certification, a certificate of completion of an apprenticeship, a license recognized by the State involved or Federal Government, or an associate or baccalaureate degree.

(f) Creating or expanding opportunities for individuals to obtain recognized postsecondary credentials in science, technology, engineering, or mathematics.

Proposed Priority 4—Fostering Knowledge and Promoting the Development of Skills that Prepare Students to be Informed, Thoughtful, and Productive Individuals and Citizens.

Background:

Knowledge and skills that prepare students to be informed, thoughtful, and productive individuals and citizens include knowledge of civics, financial literacy, problem solving, and employability skills ⁷ (such as critical thinking, interpersonal skills, or organizational skills). Research suggests that self-regulation, perseverance, and social skills play an important role in students' academic, career, and life outcomes.⁸ Unfortunately, national assessments suggest that our students often lack such skills.

⁷ See http://cte.ed.gov/employabilityskills for more information.

⁸ Farrington, C.A., Roderick, M., Allensworth, E., Nagaoka, J., Keyes, T.S., Johnson, D.W., & Beechum, N.O. (2012). Teaching adolescents to become learners. The role of noncognitive factors in shaping school performance: A critical literature review. Chicago: University of Chicago Consortium on Chicago School Research. Available at: https://consortium.uchicago.edu/sites/default/files/publications/Noncognitive%20Report.pdf.

For example, between 1998 and 2014, the average scores of eighth grade students only increased from 150 to 154 on the National Assessment of Educational Progress (NAEP) civics assessment, remaining well below the proficient score of 178.⁹ Additionally, numerous international studies indicate our Nation's students are not performing as well as students in other countries. On the Program for International Student Assessment (PISA), 15-year-old students in the United States performed near the Organization for Economic Cooperation and Development (OECD) average on financial literacy and slightly better than the OECD average on problem solving.¹⁰ However, 18 percent of 15-year-old students in the United States were low-performers (scoring below level 2 out of 5 levels) on the financial literacy assessment and 18 percent of students in the United States were low-performers on the problem solving assessment.¹¹

⁹ The Nation's Report Card. (2015). 2014 Civics Assessment: Overall Civics Scores. Available at: www.nationsreportcard.gov/hgc_2014/#civics/scores.

¹¹ U.S. Department of Education, National Center for Education Statistics. (2014). “Program for International Student Assessment (PISA): Financial Literacy: Proficiency Levels.” Available at: https://nces.ed.gov/surveys/pisa/pisa2012/pisa2012highlights_12.asp. U.S. Department of Education, National Center for Education Statistics (2014). “Program for International Student Assessment (PISA): Problem Solving: Proficiency Levels.” Available at: https://nces.ed.gov/surveys/pisa/pisa2012/pisa2012highlights_11.asp.

For the United States to compete globally, schools must better prepare students to obtain each of these types of skills. It is especially critical for students to master these skills as the number of jobs created by new businesses has substantially declined since the 1990s.¹² In addition, while the number of business startups has climbed back to pre-2007 to 2009 recession levels, such activity has declined over the long term compared to peaks in the 1980s.¹³ Promoting the development of these skills can prepare students for later in life and prepare them for employment or entrepreneurship. This, in turn, will foster a learning society and ultimately boost Americans' quality of life.

¹² Bureau of Labor Statistics. (2016). Entrepreneurship and the U.S. Economy. Available at: www.bls.gov/bdm/entrepreneurship/entrepreneurship.htm.

¹³ Ewing Marion Kauffman Foundation (May 18, 2017). Startup Activity Swings Upward for Third Consecutive Year, Annual Kauffman Index Reports. Available at: www.kauffman.org/newsroom/2017/05/startup-activity-swings-upward-for-third-consecutive-year-annual-kauffman-index-reports.

Proposed Priority:

Projects that are designed to address one or more of the following priority areas:

(a) Fostering knowledge of the common rights and responsibilities of American citizenship and civic participation, such as through civics education consistent with section 203(12) of the Workforce Innovation and Opportunity Act of 2014.

(b) Supporting projects likely to improve student academic performance and better prepare students for employment, responsible citizenship, and fulfilling lives, including by preparing students to do one or more of the following:

(i) Develop positive personal relationships with others.

(ii) Develop determination, perseverance, and the ability to overcome obstacles.

(iii) Develop self-esteem through perseverance and earned success.

(iv) Develop problem-solving skills.

(v) Control impulses and work toward long-term goals.

(c) Supporting instruction in time management, job seeking, personal organization, public and interpersonal communication, or other practical skills needed for successful career outcomes.

(d) Supporting instruction in personal financial literacy, knowledge of markets and economics, knowledge of higher education financing and repayment (e.g., college savings and student loans), or other skills aimed at building personal financial understanding and responsibility.

Proposed Priority 5—Meeting the Unique Needs of Students and Children, including those with Disabilities and/or with Unique Gifts and Talents

Background:

Our Nation's schools must assist all students in reaching their full potential. The Department seeks to improve students' access to high-quality educational opportunities that lead to successful transitions to college and careers. In particular, the Department is committed to ensuring that students with disabilities have equal access to a high-quality education, consistent with applicable requirements in Federal and State law, are held to high standards, and are prepared to lead productive, independent lives.

In addition, the Department believes that students possessing special innate skills, talents, and abilities—especially such students from disadvantaged backgrounds—should be given every opportunity to realize their full potential for the benefit of the Nation at large. Developing and empowering students to become the innovators of tomorrow is essential for our economic competitiveness. Therefore, this priority also seeks to promote high-quality educational opportunities that nurture students' individual gifts and talents to prepare them for future success.

Proposed Priority:

Projects that are designed to address one or more of the following priority areas:

(a) Ensuring students with disabilities are offered the opportunity to meet challenging objectives and receive an educational program that is both meaningful and appropriately ambitious in light of each student's circumstances by improving one or more of the following:

(i) Academic outcomes.

(ii) Functional outcomes.

(iii) Development of skills leading to competitive integrated employment or independent living.

(iv) Social or emotional development.

(b) Ensuring coursework, books, or other materials are accessible to students who are children with disabilities and/or individuals with disabilities under Section 504.

(c) Developing opportunities for students who are gifted and talented (as defined in section 8101(27) of the Elementary and Secondary Education Act, as amended), particularly students with high needs (as defined in this notice) who may not be served by traditional gifted and talented programs, so that they can reach their full potential, such as providing a greater number of gifted and talented students with access to challenging coursework or other materials.

Proposed Priority 6—Promoting Science, Technology, Engineering, and Math (STEM) Education, With a Particular Focus on Computer Science.

Background:

Our Nation's economic competitiveness depends on our ability to improve and expand STEM learning and engagement. In a 2005 report, “Rising Above the Gathering Storm,” ¹⁴ the National Academies concluded that a primary factor influencing the future health of the American economy and our ability to create jobs is innovation resulting from advances in science and engineering. Yet U.S. students finished behind those of 29 countries in mathematics and 22 countries in science on the 2012 Program for International Student Assessment, which measures the mathematics and science literacy of 15-year-olds in the world's most advanced countries. To ensure that our economic competitiveness is not at risk because of a shortage of STEM talent, we must expand the capacity of our elementary and secondary schools to provide all students, including girls, students of color, and others historically underrepresented in STEM fields, with engaging and meaningful opportunities, both in and outside the classroom, to develop knowledge and competencies in these subjects.

¹⁴ National Academy of Sciences, National Academy of Engineering, and Institute of Medicine. 2007. Rising Above the Gathering Storm: Energizing and Employing America for a Brighter Economic Future. Washington, DC: The National Academies Press. https://doi.org/10.17226/11463.

Computer science constitutes an important area within STEM. Georgetown University's Center on Education and the Workforce projects that, by 2020, 51 percent of STEM jobs will be in computer science-related fields.¹⁵ If current trends continue, 1.4 million computer science-related jobs will be available over the next ten years, but according to the Bureau of Labor Statistics, only 400,000 American computer science graduates will emerge with the skills needed to fill those jobs. This lack of skilled college graduates can be attributed, in part, to a dearth of opportunities to engage in computer science in elementary and secondary school. According to the National Center for Women and Information Technology, less than one-quarter of students nationwide have access to rigorous computer science courses.¹⁶ In light of findings such as these, it is clear we must redouble our efforts to prepare students and produce a workforce capable of sustaining and growing this critical sector of the economy.

¹⁵ See https://cew.georgetown.edu/wp-content/uploads/2014/11/stem-complete.pdf.

¹⁶ See http://www.prweb.com/releases/2012/12/prweb10219767.htm.

Computer science skills are important not only for the technology sector but also for a growing number of industries that rely on computer skills to improve their products and services, including transportation, healthcare, education, and financial services. Moreover, computer science instruction can help foster the problem-solving and analytical skills needed in many other disciplines and careers. Not surprisingly, parents increasingly recognize the importance of computer science: 9 out of 10 parents surveyed by Gallup say they want computer science taught at their child's school.¹⁷

¹⁷ See http://services.google.com/fh/files/misc/images-of-computer-science-report.pdf.

Effective use of technology in the classroom can help reduce inequities in learning and achievement and better prepare students for the careers of tomorrow.¹⁸ Educators can leverage new digital technologies to improve their teaching, but also need support to do so.¹⁹ As the Department's 2017 National Education Technology Plan describes, technology can serve as a powerful tool to reimagine learning experiences by leveraging advances enabled by technology, including personalized learning, which adapts instruction to students' individual needs.²⁰ Technology used for educational purposes must be accessible to students who are children with disabilities and/or individuals with disabilities, consistent with the requirements of the Americans with Disabilities Act, and Section 504 of the Rehabilitation Act of 1973. The provision of assistive technology devices and services is also integral to the education of children with disabilities under the IDEA. Technology can enable adult learners to fit courses into their work schedule or to learn and earn new credentials that prepare them to further their careers regardless of where they live.

¹⁸ See Warschauer, M., & Matuchniak, T. (2010). New technology and digital worlds: Analyzing evidence of equity in access, use, and outcomes. Review of Research in Education, 34(1), 179-225.

¹⁹ Purcell, K., Heaps, A., Buchanan, J., & Friedrich, L. (2013). How teachers are using technology at home and in their classrooms. Washington, DC: Pew Research Center's Internet & American Life Project. Available at: www.pewinternet.org/2013/02/28/how-teachers-are-using-technology-at-home-and-in-their-classrooms/.

²⁰ U.S. Department of Education, Office of Educational Technology (OET) (2017). Reimagining the Role of Technology in Education: 2017 National Education Technology Plan Update. Available at: https://tech.ed.gov/files/2017/01/NETP17.pdf.

Proposed Priority:

Projects designed to improve student achievement in science, technology, engineering, math and computer science, or other educational outcomes and are designed to address one or more of the following priority areas:

(a) Increasing the number of educators adequately prepared to deliver rigorous instruction in STEM fields, including computer science (as defined in this notice), through recruitment, evidence-based (as defined in 34 CFR 77.1) professional development for current STEM educators, or evidence-based retraining for current educators seeking to transition from other subjects to STEM fields.

(b) Supporting student mastery of key prerequisites (e.g. Algebra I) to ensure success in all STEM fields, but particularly computer science coursework (notwithstanding the definition in this notice), and exposing students to building block skills (such as critical thinking and problem solving, gained through hands-on, inquiry-based learning), as well as the proficient use of computer applications necessary to transition from a user of technologies, particularly computer technologies, to a developer of them.

(c) Identifying and implementing instructional strategies in STEM fields, including computer science (as defined in this notice), that are supported by strong or moderate evidence (as defined in 34 CFR 77.1).

(d) Expanding access to and participation in rigorous computer science (as defined in this notice) coursework for traditionally underrepresented students such as racial or ethnic minorities, women, or students in communities served by rural local educational agencies (as defined in this notice).

(e) Increasing access to STEM coursework, including computer science (as defined in this notice), and hands-on learning opportunities, such as through expanded course offerings, dual-enrollment, or other innovative delivery mechanisms including high-quality online coursework.

(f) Creating or expanding partnerships between schools, LEAs and/or SEAs, local businesses, not-for-profit organizations, or institutes of higher education to give students access to internships, apprenticeships, or other work-based learning experiences in STEM fields, including computer science (as defined in this notice).

(g) Other evidence-based (as defined in 34 CFR 77.1) areas that encourage innovative new approaches to expanding access to high-quality STEM education, including computer science (as defined in this notice).

(h) Utilizing technology for educational purposes in communities served by rural local educational agencies (as defined in this notice) or other areas identified as lacking sufficient access to such tools and resources.

(i) Utilizing technology to provide access to educational choice (as defined in this notice).

(j) Working with schools, municipal libraries, or other partners to provide new and accessible methods of accessing digital learning resources, such as by digitizing books or expanding access to such resources for a greater number of students.

(k) Supporting programs that lead to recognized postsecondary credentials (as defined in section 3(52) of the Workforce Innovation and Opportunity Act of 2014 (WIOA)) for careers in science, technology, engineering, and mathematics or in in-demand industry sectors or occupations (as defined in section 3(23)(A) of WIOA).

(l) Making coursework, books, or other materials available as open educational resources or taking other steps so that such materials may be inexpensively and widely used.

Proposed Priority 7—Promoting Literacy.

Background:

Literacy is a foundation for learning and is essential to students' ability to progress, pursue higher education, and succeed in the workplace. For example, the reading level of third grade students is highly predictive of their later success in school and enrollment in college.²¹ Third grade literacy rates can have tremendous social consequences, including on individuals' earnings as adults.²² Students' reading scores on the NAEP, unfortunately, are not increasing at a fast enough rate to ensure all students are ready for college and today's careers. Between 1992 and 2015, the percentage of fourth grade students who scored at or above “proficient” increased by only seven percentage points, from 29 percent to 36 percent.²³ Black and Hispanic students have experienced greater improvements than white students on fourth grade NAEP reading tests, but only 18 percent of black students and 21 percent of Hispanic students score at or above “proficient” compared to 46 percent of their white counterparts.²⁴

²¹ See, e.g., Lesnick, J., Goerge, R. M., Smithgall, C. & Gwynne, J. (2010). Reading on Grade Level in Third Grade: How Is It Related to High School Performance and College Enrollment? Chapin Hall at the University of Chicago. Available at: www.chapinhall.org/sites/default/files/Reading_on_Grade_Level_111710.pdf.

²² The Annie E. Casey Foundation. (2013). Early Warning Confirmed: A Research Update on Third-Grade Reading. Available at: www.aecf.org/resources/early-warning-confirmed/.

²³ The Nation's Report Card. (2015). National Achievement Level Results. Available at: www.nationsreportcard.gov/reading_math_2015/#reading/acl?grade=4.

²⁴ Ibid.

One strategy to improve literacy is to integrate literacy instruction into content-area teaching. This may be especially important for adolescents who need to learn to read a variety of texts in math, science, and social studies courses.²⁵ A lack of literacy skills may hinder their pursuit of additional education, career opportunities, and participation in society.²⁶

²⁵ Baker, S., Lesaux, N., Jayanthi, M., Dimino, J., Proctor, C. P., Morris, J., Gersten, R., Haymond, K., Kieffer, M. J., Linan-Thompson, S., & Newman-Gonchar, R. (2014). Teaching academic content and literacy to English learners in elementary and middle school. Washington, DC: National Center for Education Evaluation and Regional Assistance, Institute of Education Sciences, U.S. Department of Education. Available at: http://ies.ed.gov/ncee/wwc/publications_reviews.aspx. Torgesen, J.K., Houston, D.D., Rissman, L.M., Decker, S.M., Roberts, G., Vaughn, S., Wexler, J., Francis, D.J., Rivera, M., & Lesaux, N. (2007). Academic Literacy Instruction For Adolescents. Portsmouth, NH: RMC Research Corporation, Center on Instruction. Available at: http://opi.mt.gov/pub/rti/EssentialComponents/RBCurric/Reading/RTIResources/Academic%20Literacy%20Instruction%20for%20Adolescents.pdf.

²⁶ See U.S. Department of Education, Office of Career, Technical and Adult Education. (2016). Adult Workers with Low Measured Skills: A 2016 Update. Available at: https://www2.ed.gov/about/offices/list/ovae/pi/AdultEd/factsh/adultworkerslowmeasuredskills.pdf.

While there are numerous evidence-based literacy interventions and strategies,²⁷ professional development and effective data use (e.g., formative assessments to inform reading groupings and instruction) are key to successful implementation. For example, after participating in a kindergarten-third grade early literacy professional development initiative, teachers in Mississippi improved the quality of their instruction and improved student engagement in their classrooms.²⁸ Similarly, case studies of five programs that aligned preschool through third grade learning highlighted the importance of instructional coaches to train teachers in using data to inform instruction.²⁹

²⁷ See the What Works Clearinghouse's literacy publications at https://ies.ed.gov/ncee/wwc/Publication#/FWWFilterId:3,SortBy:RevisedDate,SetNumber:1.

²⁸ Folsom, J. S., Smith, K. G., Burk, K., & Oakley, N. (2017). Educator outcomes associated with implementation of Mississippi's K-3 early literacy professional development initiative (REL 2017-270). Washington, DC: U.S. Department of Education, Institute of Education Sciences, National Center for Education Evaluation and Regional Assistance, Regional Educational Laboratory Southeast. Available at: https://ies.ed.gov/ncee/edlabs/projects/project.asp?projectID=466.

²⁹ U.S. Department of Education, Office of Planning, Evaluation and Policy Development, Policy and Program Studies Service, Case Studies of Schools Implementing Early Elementary Strategies: Preschool Through Third Grade Alignment and Differentiated Instruction, Washington, DC, 2016. Available at https://www2.ed.gov/rschstat/eval/implementing-early-strategies/report.pdf.

Families play a critical role in supporting children's literacy. When families and schools work together and support each other in their respective roles, children have a more positive attitude toward school and experience more school success.³⁰ Specifically, research has found that having parents reinforce specific literacy skills is effective in improving children's literacy.³¹

³⁰ Henderson, A.T. & Mapp, K.L. (2002). A new wave of evidence: The impact of school, family and community connections on student achievement. Austin: SEDL.

³¹ Senechal, M. (2006). The Effect of Family Literacy Interventions On Children's Acquisition of Reading: from Kindergarten to Grade 3. National Institute for Literacy, Washington, DC. Available at http://lincs.ed.gov/publications/pdf/lit_interventions.pdf.

Proposed Priority:

Projects that are designed to address one or more of the following priority areas:

(a) Promoting literacy interventions supported by strong evidence (as defined in 34 CFR 77.1), including by supporting educators with the knowledge, skills, professional development (as defined in section 8101(42) of the Elementary and Secondary Education Act, as amended), or materials necessary to promote such literacy interventions.

(b) Providing families with evidence-based (as defined in 34 CFR 77.1) strategies for promoting literacy at home. This may include providing families with access to books or other physical or digital materials or content about how to support their child's reading development, or providing family literacy activities (as defined in section 203(9) of the Workforce Innovation and Opportunity Act of 2014).

(c) Facilitating the accurate and timely use of data by educators to improve reading instruction and make informed decisions about how to help students build literacy skills while protecting student and family privacy.

(d) Integrating literacy instruction into content-area teaching using practices supported by strong or moderate evidence (as defined in 34 CFR 77.1).

(e) Supporting the development of literacy skills to meet the employment and independent living needs of adults using practices supported by strong evidence (as defined in 34 CFR 77.1).

Proposed Priority 8—Promoting Effective Instruction in Classrooms and Schools.

Background:

Research indicates that of all the school-related factors that impact student academic performance, teacher quality matters most.³² Teaching is critically important, challenging, and complex work, and great teachers contribute enormously to the learning and the lives of children.³³ At the same time, there is still much work to be done to ensure meaningful and ample support for educators so that they can help students reach their full potential.

³² RAND Corporation. (2012). Teachers matter: Understanding teachers' impact on student achievement. Santa Monica, CA: Author. Available at: www.rand.org/content/dam/rand/pubs/corporate_pubs/2012/RAND_CP693z1-2012-09.pdf.

³³ RAND Corporation. (2012). Teachers matter: Understanding teachers' impact on student achievement. Santa Monica, CA: Author. Available at: www.rand.org/content/dam/rand/pubs/corporate_pubs/2012/RAND_CP693z1-2012-09.pdf.; Rowan, B., Correnti, R. & Miller, R. J. (2002). What Large-Scale Survey Research Tells Us About Teacher Effects on Student Achievement: Insights from the Prospects Study of Elementary Schools. Teachers College Record, 104, 1525-1567; Rivkin, S.G., Hanushek, E. & Kain, J.F. (2000). Teachers, Schools, and Academic Achievement (Working Paper W6691). National Bureau of Economic Research. Available at: www.cgp.upenn.edu/pdf/Hanushek_NBER.PDF.

Similarly, effective principals and other school leaders are crucial to strengthening teaching and school communities and improving student achievement. School leadership is second only to classroom instruction in importance among school-based variables affecting student achievement.³⁴ Research shows that effective leaders play a critical role in student academic success, especially in high-need schools, by creating cultures of high expectations and by recruiting and retaining highly effective teachers.³⁵ Effective leaders also create a vision of academic success for all children, encourage other educators to take on leadership roles and responsibilities, and build a school that is part of, and responsive to, the community that it serves.

³⁴ Louis, K.S., Leithwood, K., Wahlstrom, K., & Anderson, S. (2010). Investigating the links to improved student learning: Final report of research findings. Available at: www.wallacefoundation.org/knowledge-center/Documents/Investigating-the-Links-to-Improved-Student-Learning.pdf.

³⁵ Loeb, S., et al. (2012). Effective Schools: Teacher Hiring, Assignment, Development, and Retention. Journal of Education Finance and Policy, 7, 269-304.

In particular, this priority seeks to develop evidence on effective professional development and programs that support teachers and leaders as they enter the profession, different leadership pathways for educators in and out of the classroom, increased diversity through strategic recruitment, innovative staffing models, and retention of top talent.

Proposed Priority:

Projects that are designed to address one or more of the following priority areas:

(a) Developing new career pathways for effective educators to assume leadership roles with the option to maintain instructional responsibilities and direct interaction with students.

(b) Supporting the recruitment or retention of educators who are effective and increase diversity (including, but not limited to, racial and ethnic diversity).

(c) Promoting innovative strategies to increase the number of students who have access to effective teachers or school leaders in one or more of the following:

(i) Schools generally.

(ii) Schools that are located in communities served by rural local educational agencies; or

(iii) Schools with a large proportion of low-income students.

(d) Developing or implementing innovative staffing or compensation models to attract effective educators.

(e) Recruiting promising students and qualified individuals from other fields to become teachers, principals, or other school leaders, such as mid-career professionals from other occupations, former military personnel, or recent graduates of institutions of higher education with records of academic distinction who demonstrate potential to become effective teachers, principals, or other school leaders.

(f) Increasing the opportunities for high-quality preparation of, or professional development for, teachers or other educators of science, technology, engineering, and math subjects.

Proposed Priority 9—Promoting Economic Opportunity.

Background:

Data show that in 2016, a worker with a high school diploma earned almost $10,000 more per year than a worker with less than a high school diploma.³⁶ Similarly, a worker with a bachelor's degree earned about $24,000 more per year than a worker with only a high school diploma.³⁷ In general, individuals with higher educational attainment have higher rates of employment and higher average earnings than those with lower levels of educational attainment.³⁸

³⁶ Bureau of Labor Statistics. (2017). Unemployment rates and earnings by education attainment, 2016. Available at: www.bls.gov/emp/ep_chart_001.htm/.

³⁷ Ibid.

³⁸ Ibid.

Research tells us that children who grow up in stable households, with parents reaching higher levels of education, who read to them, and who engage in their intellectual development, will have advantages over children growing up in households without these characteristics.³⁹

³⁹ Egalite, A. (2016). How Family Background Influences Student Achievement. Education Next, 16(2). Available at: http://educationnext.org/how-family-background-influences-student-achievement.

By recognizing the non-academic factors that contribute to academic success, this priority would support pathways out of poverty. While the Department—and education leaders at the State and local levels—cannot solve all of these out-of-school challenges, the Department can more effectively use its resources to support students (and their families) so that they have all of the tools that they need to be successful in the classroom and beyond. The Department can also help to ensure that its efforts are working in conjunction with—and not against—other Federal, State, local, and—most of all—private efforts to solve the challenges of poverty.

Proposed Priority:

Projects that are designed to reduce academic or non-academic barriers to economic mobility and, therefore, increase educational opportunities for children, by addressing one or more of the following priority areas:

(a) Aligning Federal, State, and/or local funding streams to promote economic mobility of low-income parents and children.

(b) Building greater effective family engagement in their students' education.

(c) Creating or supporting alternative paths to a regular high school diploma (as defined in section 8101(43) of the Elementary and Secondary Education Act, as amended) and/or recognized postsecondary credentials (as defined in section 3(52) of the Workforce Innovation and Opportunity Act of 2014) for students whose environments outside of school, disengagement with a traditional curriculum, homelessness, or other challenges make it more difficult for them to complete an educational program.

(d) Increasing the number of children who enter kindergarten ready to succeed in school and in life by supporting families and communities to help more children obtain requisite knowledge and skills to be prepared developmentally.

(e) Creating or expanding partnerships between schools, LEAs, and/or SEAs, and community-based organizations to provide supports and services to students and families.

Proposed Priority 10—Encouraging Improved School Climate and Safer and More Respectful Interactions in a Positive and Safe Educational Environment.

Background:

In order for students to engage in thoughtful debate and meaningful discussion, a critical component of learning, they must feel safe to honestly and openly share their thoughts and opinions on a wide range of issues in school. School leaders, teachers, and professors must ensure that schools and institutions of higher education are physically and disciplinarily safe for students to learn. This environment can be developed through promoting a positive school setting that supports learning, minimizes disruptions, and increases respect for differing experiences and perspectives.

Open and honest dialogue is especially important in postsecondary settings, where students grapple with particularly complex, difficult, and potentially polarizing issues. Ensuring that students and educators of all backgrounds are able to engage in respectful dialogue—without fear of retribution—is likely to promote greater learning and understanding and a stronger Nation.

Thoughtful debate is unlikely to take root in an environment that tolerates bullying and other major disruptions. Elementary and secondary schools have made strides in fostering safer environments. Between 2005 and 2015, the percentage of students ages 12-18 who reported being bullied decreased from 28 to 21 percent.⁴⁰ Additionally, victimization rates have greatly declined between 1992 and 2015, falling from 181 per 1,000 students to 33 per 1,000 students.⁴¹ Thus, schools are becoming physically and emotionally safer for students; however, more needs to be done to stop bullying and ensure that every child can learn in a safe environment.

⁴⁰ Musu-Gillette, L., Zhang, A., Wang, K., Zhang, J., and Oudekerk, B.A. (2017). Indicators of School Crime and Safety: 2016 (NCES 2017-064/NCJ 250650). U.S. Department of Education, National Center for Education Statistics and Bureau of Justice Statistics, Office of Justice Programs, U.S. Department of Justice. Washington, DC. Available at: https://nces.ed.gov/pubs2017/2017064.pdf.

⁴¹ Ibid.

A significant number of teachers report that the behavior of a few students is disrupting the education of many: Between 1994 and 2012, the percentage of teachers who reported that student misbehavior interfered with their teaching fluctuated over the years, ranging from 34 to 41 percent.⁴² In classrooms that experience severe disruptions, it is difficult for teachers to provide instruction and students may not feel secure and comfortable enough to learn and grow.

⁴² Ibid.

Proposed Priority:

Projects that are designed to address one or more of the following priority areas:

(a) Creating positive and safe learning environments, including by providing school personnel with effective strategies.

(b) Developing positive learning environments that promote strong relationships among students, faculty, and staff to help enhance the learning environment and prevent bullying, violence, and disruptive actions that can diminish the opportunity to receive a high-quality education.

(c) Protecting free speech in order to allow for the discussion of diverse ideas or viewpoints.

Proposed Priority 11—Ensuring that Service Members, Veterans, and Their Families Have Access to High-Quality Educational Choices.

Background:

It is essential to provide our Nation's veterans and service members with the resources necessary to continue their education and seek a path to a career outside of the military. In the 2011-12 school year, 1.3 million military students were enrolled as undergraduate or graduate students, a significant 22 percent increase from the 2008-09 school year.⁴³ However, despite the many education and training opportunities provided in the Post-9/11 GI Bill and through other programs, a 2013 survey found that fewer than half of Iraq and Afghanistan veterans had taken advantage of the financial aid benefits available to them.⁴⁴ These opportunities must be made easier to use and their benefits more clearly communicated.

⁴³ Radford, A.W., Bentz, A., Dekker, R., & Paslov, J. (2016). After the Post-9/11 GI Bill: A Profile of Military Service Members and Veterans Enrolled in Undergraduate and Graduate Education. Stats in Brief. (NCES 2016-435). U.S. Department of Education, National Center for Education Statistics. Washington, DC. Available at: nces.ed.gov/pubs2016/2016435.pdf.

⁴⁴ After the Wars—Washington Post-Kaiser Family Foundation (2013) survey of Afghanistan and Iraq war veterans. Available at: www.washingtonpost.com/page/2010-2019/WashingtonPost/2015/10/20/National-Politics/Polling/question_13812.xml.

When they enroll in higher education, military- and veteran-connected postsecondary students frequently have different needs from other students. Unfortunately, the quality of services provided to these students can vary substantially.⁴⁵ Such students are also more likely to experience obstacles to the successful completion of their programs, such as disruptions due to transfers, unit activities, or deployments. Despite these barriers, many military- and veteran-connected students have succeeded in higher education. A recent study of veterans who used the Post-9/11 GI Bill to pursue higher education found that approximately 72 percent have either earned a postsecondary degree or are continuing to work toward a certificate or degree.⁴⁶

⁴⁵ Queen, B., Lewis, L. & Ralph, J. (2014). Services and Support Programs for Military Service Members and Veterans at Postsecondary Institutions, 2012-13. U.S. Department of Education, Institute of Education Sciences, National Center for Education Statistics. Available at: https://nces.ed.gov/pubsearch/pubsinfo.asp?pubid=2014017.

⁴⁶ Cate, C.A., Lyon, J., Schmelding, J., & Bogue, B.Y. (2017). National Veteran Education Success Tracker: A Report on the Academic Success of Student Veterans Using the Post-9/11 GI Bill. Student Veterans of America. Available at: http://nvest.studentveterans.org/wp-content/uploads/2017/03/NVEST-Report_FINAL.pdf.

In addition, it is critical to support the educational opportunities and achievement of military- or veteran-connected students in elementary and secondary education. In 2015, the Department of Defense reported there were almost 1.8 million military-connected children and slightly more than 1 million military spouses.⁴⁷ Many military families experience frequent moves that require their children to change schools, leading to additional challenges and stresses.⁴⁸

⁴⁷ U.S. Department of Defense, Office of the Deputy Assistant Secretary of Defense for Military Community and Family Policy (2015). 2015 Demographics: Profile of the Military Community. Available at: http://download.militaryonesource.mil/12038/MOS/Reports/2015-Demographics-Report.pdf.

⁴⁸ Clever, Molly M., and Segal, D.R. (2013). The Demographics of Military Children and Families. The Future of Children 23(2), 13-39.

Proposed Priority:

Projects that are designed to address the academic needs of military- or veteran-connected students (as defined in this notice).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions:

The Secretary proposes the following definitions for use in any Department discretionary grant program.

Children or students with high needs means children or students at risk of educational failure or otherwise in need of special assistance or support, such as children and students who are living in poverty, who are English learners, who are academically far below grade level, who have left school before receiving a regular high school diploma, who are at risk of not graduating with a regular high school diploma on time, who are homeless, who are in foster care, who have been incarcerated, or are children or students with disabilities.

Computer science means the study of computers and algorithmic processes and includes the study of computing principles and theories, computational thinking, computer hardware, software design, coding, analytics, and computer applications.

Computer science often includes computer programming or coding as a tool to create software including applications, games, Web sites, and tools to manage or manipulate data; development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets or presentation software; or using computers in the study and exploration of unrelated subjects.

Educational choice means the opportunity for a student (or a family member on their behalf) to create a personalized path for learning that is consistent with applicable Federal, State, and local laws, is in an educational setting that best meets the student's needs, and, where possible, incorporates evidence-based activities, strategies, and interventions.⁴⁹ Opportunities made available to a student through a grant program are those that supplement what is provided by a student's geographically assigned school or the institution in which he or she is currently enrolled and may include one or more of the options listed below:

⁴⁹ U.S. Department of Education, Office of Elementary and Secondary Education (2016). Non-Regulatory Guidance: Using Evidence to Strengthen Education Investments. Available at: https://www2.ed.gov/policy/elsec/leg/essa/guidanceuseseinvestment.pdf.

(1) Public educational programs or courses including those offered by traditional public schools, public charter schools, public magnet schools, public online education providers, or other public education providers.

(2) Private or home-based educational programs or courses including those offered by private schools, private online providers, private tutoring providers, community or faith-based organizations, or other private education providers.

(3) Internships, apprenticeships, or other programs offering access to learning in the workplace.

(4) Part-time coursework or career preparation offered by a public or private provider in person or through the internet or another form of distance learning, that serves as a supplement to full-time enrollment at an educational institution, as a stand-alone program leading to a credential, or as a supplement to education received in a homeschool setting.

(5) Dual or concurrent enrollment programs or early college high schools (as defined in section 8101(15) and (17) of the Elementary and Secondary Education Act, as amended), or other programs that enable secondary school students to begin earning credit toward a postsecondary degree or credential prior to high school graduation.

(6) Access to services or programs for aspiring or current postsecondary students not offered by the institution in which they are currently enrolled to support retention and graduation.

(7) Other educational services including credit-recovery, accelerated learning, and tutoring. High-poverty school means a school in which at least 50 percent of students are from low-income families as determined using one of the measures of poverty specified under section 1113(a)(5) of the Elementary and Secondary Education Act, as amended. For middle and high schools, eligibility may be calculated on the basis of comparable data from feeder schools. Eligibility as a high-poverty school under this definition is determined on the basis of the most currently available data.

Military- or veteran-connected student means one or more of the following:

(a) A child participating in an early learning and development program, a student enrolled in preschool through grade 12, or a student enrolled in postsecondary education or career and technical education, who has a parent or guardian who is a member of the uniformed services (as defined by 37 U.S.C. 101, in the Army, Navy, Air Force, Marine Corps, Coast Guard, National Guard, National Oceanic and Atmospheric Administration, or Public Health Service) or is a veteran of the uniformed services with an honorable discharge (as defined by 38 U.S.C. 3311).

(b) A student who is a member of the uniformed services, a veteran of the uniformed services, or the spouse of a service member or veteran.

(c) A child participating in an early learning and development program or a student enrolled in preschool through grade 12 or in a postsecondary education program who has a parent or guardian who is a veteran of the uniformed services (as defined by 37 U.S.C. 101).

Rural local educational agency means a local educational agency that is eligible under the Small Rural School Achievement (SRSA) program or the Rural and Low-Income School (RLIS) program authorized under Title V, Part B of the Elementary and Secondary Education Act, as amended. Eligible applicants may determine whether a particular district is eligible for these programs by referring to information on the Department's Web site at www2.ed.gov/nclb/freedom/local/reap.html.

Final Priorities and Definitions:

We will announce the final priorities and definitions in a notice in the Federal Register. We will determine the final priorities and definitions after considering responses to this notice and other information available to the Department. This notice does not preclude us from proposing additional priorities, requirements, definitions, or selection criteria, subject to meeting applicable rulemaking requirements.

Note: This notice does not solicit applications. In any year in which we choose to use one or more of these priorities or definitions, we invite applications through a notice in the Federal Register.

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is a significant regulatory action subject to review by OMB under section 3(f) of Executive Order 12866.

Under Executive Order 13771, for each new regulation that the Department proposes for notice and comment or otherwise promulgates that is a significant regulatory action under Executive Order 12866, it must identify two deregulatory actions. Beginning with Fiscal Year 2017, any new incremental costs associated with a new regulation must be fully offset by the elimination of existing costs through deregulatory actions. Although this regulatory action is a significant regulatory action, the requirements of Executive Order 13771 do not apply because this regulatory action is a “transfer rule” not covered by the Executive order.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and definitions only on a reasoned determination that their benefits will justify their costs. In choosing among alternative regulatory approaches, we selected the approach that will maximize net benefits. Based on the analysis that follows, the Department believes that this regulatory action is consistent with the principles in Executive Order 13563.

We also have determined that this regulatory action will not unduly interfere with State, local, and tribal governments in the exercise of their governmental functions.

In accordance with these Executive orders, the Department has assessed the potential costs and benefits, both quantitative and qualitative, of this regulatory action. The potential costs associated with this regulatory action are those resulting from regulatory requirements and those we have determined are necessary for administering the Department's programs and activities.

Discussion of Costs and Benefits:

The proposed priorities and definitions would impose minimal costs on entities that would receive assistance through the Department's discretionary grant programs. Additionally, the benefits of implementing the proposal contained in this notice outweigh any associated costs because it would result in the Department's discretionary grant programs encouraging the submission of a greater number of high-quality applications and supporting activities that reflect the Administration's educational priorities.

Application submission and participation in a discretionary grant program are voluntary. The Secretary believes that the costs imposed on applicants by the proposed priorities would be limited to paperwork burden related to preparing an application for a discretionary grant program that is using a priority in its competition. Because the costs of carrying out activities would be paid for with program funds, the costs of implementation would not be a burden for any eligible applicants, including small entities.

Regulatory Flexibility Act Certification: For these reasons as well, the Secretary certifies that these proposed priorities and definitions would not have a significant economic impact on a substantial number of small entities.

Intergovernmental Review: Some of the programs affected by these proposed priorities and definitions are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Betsy DeVos,
Secretary of Education.

[FR Doc. 2017-22127 Filed 10-11-17; 8:45 am]

BILLING CODE 4000-01-P